DEPARTMENT OF HOMELAND SECURITY

Coast Guard

33 CFR Part 165

[Docket No. USCG-2012-1036]

Safety Zones; Recurring Marine Events in Captain of the Port Long Island Sound Zone

AGENCY: Coast Guard, DHS.

ACTION: Notice of enforcement of regulation.

SUMMARY: The Coast Guard will enforce a safety zone for a fireworks display in the Sector Long Island Sound area of responsibility on August 30-31, 2014. This action is necessary to provide for the safety of life on navigable waterways during the event. During the enforcement period, no person or vessel may enter the safety zone without permission of the Captain of the Port (COTP) Sector Long Island Sound or designated representative.

DATES: The regulations for the marine event listed in Table 1 to 33 CFR 165.151(9.3) will be enforced on August 30, 2014 and August 31, 2014 from 8:30 p.m. to 9:40 p.m.

FOR FURTHER INFORMATION CONTACT: If you have questions on this notice, call or email Petty Officer Ian Fallon, Waterways Management Division, U.S. Coast Guard Sector Long Island Sound; telephone 203-468-4565, email Ian.M.Fallon@uscg.mil.

SUPPLEMENTARY INFORMATION: The Coast Guard will enforce the safety zone listed in Table 1 to 33 CFR 165.151(9.3) on the specified dates and times as indicated below. The final rule establishing this safety zone was published in the Federal Register on May 24, 2013 (78 FR 31402).

Table 1 to §165.151
9.3 Village of Island Park Labor Day Celebration Fireworks | • Date: August 30, 2014. • Rain Date: August 31, 2014. • Time: 8:30 p.m. to 9:40 p.m. • Location: Waters off Village of Island Park Fishing Pier, Village Beach, NY in approximate position 40°36′30.95″ N., 073°39′22.23″ W. (NAD 83).

Under the provisions of 33 CFR 165.151, the fireworks display listed above is established as a safety zone. During the enforcement period, persons and vessels are prohibited from entering into, transiting through, mooring, or anchoring within the safety zone unless they receive permission from the COTP or designated representative This notice is issued under authority of 33 CFR 165 and 5 U.S.C. 552(a). In addition to this notice in the Federal Register, the Coast Guard will provide the maritime community with advance notification of this enforcement period via the Local Notice to Mariners or marine information broadcasts. If the COTP determines that the safety zone need not be enforced for the full duration stated in this notice, a Broadcast Notice to Mariners may be used to grant general permission to enter the safety zone.

Dated: August 8, 2014.
E. J. Cubanski III,
Captain, U.S. Coast Guard, Captain of the Port Sector Long Island Sound.

[FR Doc. 2014-19989 Filed 8-21-14; 8:45 am]

BILLING CODE 9110-04-P